DEPARTMENT OF TRANSPORTATION

Federal Aviation Administration

14 CFR Part 71

[Docket No. FAA-2024-2031; Airspace Docket No. 24-AEA-6]

RIN 2120-AA66

Amendment of Domestic Very High Frequency Omnidirectional Range (VOR) Federal Airways; Eastern United States

AGENCY: Federal Aviation Administration (FAA), DOT.

ACTION: Notice of proposed rulemaking (NPRM).

SUMMARY: This action proposes to amend domestic Very High Frequency Omnidirectional Range (VOR) Federal Airways V-16, V-103, V-375, and V-473 in the eastern United States. The FAA is taking this action due to the planned decommissioning of the Roanoke, VA (ROA), VOR/Distance Measuring Equipment (VOR/DME). This action is in support of the FAA's VOR Minimum Operational Network (MON) Program.

DATES: Comments must be received on or before September 23, 2024.

ADDRESSES: Send comments identified by FAA Docket No. FAA-2024-2031 and Airspace Docket No. 24-AEA-6 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends the route structure to maintain the efficient flow of air traffic within the National Airspace System (NAS).

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA 30337.

Incorporation by Reference

Domestic VOR Federal airways are published in paragraph 6010(a) of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

The FAA is planning to decommission the Roanoke, VA (ROA), VOR/DME in June 2025. The Roanoke VOR/DME is a candidate navigational aid (NAVAID) identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

The Air Traffic Service (ATS) routes affected by the planned NAVAID decommissioning are VOR Federal Airways V-16, V-103, V-375, and V-473. With the planned decommissioning of the Roanoke, VA (ROA), VOR/DME, the remaining ground-based NAVAID coverage in the area is insufficient to enable the continuity of the affected ATS routes. As such, proposed modifications to V-375 and V-473 would result in the airways being shortened; and to V-16 and V-103 would result in a gap being created.

To overcome the proposed modifications to the affected routes, instrument flight rules (IFR) traffic could use adjacent VOR Federal airways or receive air traffic control (ATC) radar vectors to fly through or circumnavigate the affected area. Additionally, IFR pilots with Area Navigation (RNAV)-equipped aircraft could also use the adjacent RNAV Routes T-315, T-424, T-426, and T-479; or navigate point-to-point using the existing fixes that will remain in place to support continued operations though the affected area. Visual flight rules (VFR) pilots who elect to navigate via airways through the affected area could also take advantage of ATC services listed previously.

The Proposal

The FAA is proposing an amendment to 14 CFR part 71 to amend domestic VOR Federal Airways V-16, V-103, V-375, and V-473 to support the planned decommissioning of the Roanoke, VA (ROA), VOR/DME. This action is in support of the FAA's VOR MON Program.

V-16: V-16 currently extends between the Los Angeles, CA (LAX), VOR/Tactical Air Navigation (VORTAC) and the Holly Springs, MS (HLI), VORTAC; between the Shelbyville, TN (SYI), VOR/DME, and the Richmond, VA (RIC), VORTAC; and between the Smyrna, DE (ENO), VORTAC and the intersection of the Calverton, NY (CCC), VOR/DME 044°, and the Madison, CT (MAD), VOR/DME 142° radials (CREAM Fix). The airspace within restricted areas R-5002A, R-5002C, and R-5002D is excluded during their times of use. The FAA proposes to remove the airway segments between the Pulaski, VA (PSK), VORTAC and the Lynchburg, VA (LYH), VOR/DME due to the scheduled decommissioning of the Roanoke, VA (ROA), VOR/DME.

Additionally, the FAA proposes to add to the description that the airspace within restricted area R-5002F is excluded during its time of use as R-5002F is adjacent to VOR Federal Airway V-16 and must excluded. As amended, the airway would be changed to extend between the Los Angeles VORTAC and the Holly Springs VORTAC; between the Shelbyville VOR/DME and the Pulaski VORTAC; between the Lynchburg VOR/DME and the Richmond VORTAC; and between the Smyrna VORTAC and the CREAM Fix. The airspace within restricted areas R-5002A, R-5002C, R-5002D, and R-5002F is excluded during their times of use.

V-103: V-103 currently extends between the Chesterfield, SC (CTF), VOR/DME and the Akron, OH (ACO), VOR/DME. In the description of V-103, the route segments between the Greensboro, NC (GSO), VORTAC and the Roanoke, VA (ROA), VOR/DME is further described as the Greensboro VORTAC 357° and the Roanoke VOR/DME 181° radials. The FAA proposes to remove the airway segments between the intersection of the Greensboro, NC (GSO), VORTAC 357° True (T)/360° Magnetic (M) and the South Boston, VA (SBV), VORTAC 247° T/252° M radials (MAYOS Fix) and the Elkins, WV (EKN), VORTAC due to the scheduled decommissioning of the Roanoke VOR/DME. As amended, the airway would be changed to extend between the Chesterfield VOR/DME and the MAYOS Fix; and between the Elkins VORTAC and the Akron VOR/DME.

V-375: V-375 currently extends between the Roanoke, VA (ROA), VOR/DME and the intersection of the Gordonsville, VA (GVE), VORTAC 034° and Casanova, VA (CSN), VORTAC 142° radials (FLUKY Fix). The FAA proposes to remove the airway segments between the Roanoke VOR/DME and the Gordonsville VORTAC due to the scheduled decommissioning of the Roanoke VOR/DME. As amended, the airway would be changed to extend between the Gordonsville VORTAC and the FLUKY Fix.

V-473: V-473 currently extends between the Roanoke, VA (ROA), VOR/DME and the Gordonsville, VA (GVE), VORTAC. The FAA proposes to remove the airway segments between the Roanoke VOR/DME and the Montebello, VA (MOL), VOR/DME due to the scheduled decommissioning of the Roanoke VOR/DME. As amended, the airway would be changed to extend between the Montebello VOR/DME and the Gordonsville VORTAC.

The full descriptions of the above routes are set forth below in the proposed amendments to part 71. The NAVAID radials listed in the VOR Federal airway description regulatory text of this final rule are stated in degrees True north. Additionally, minor editorial corrections to the airway descriptions are made to comply with ATS route formatting requirements.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6010(a) Domestic VOR Federal Airways.

* * * * *

V-16 [Amended]

From Los Angeles, CA; Paradise, CA; Palm Springs, CA; Blythe, CA; Buckeye, AZ; Phoenix, AZ; INT Phoenix 155° and Stanfield, AZ, 105° radials; Tucson, AZ; San Simon, AZ; INT San Simon 119° and Columbus, NM, 277° radials; Columbus; El Paso, TX; Salt Flat, TX; Wink, TX; INT Wink 066° and Big Spring, TX, 260° radials; Big Spring; Abilene, TX; Bowie, TX; Bonham, TX; Paris, TX; Texarkana, AR; Pine Bluff, AR; Marvell, AR; to Holly Springs, MS. From Shelbyville, TN; Hinch Mountain, TN; Volunteer, TN; Holston Mountain, TN; to Pulaski, VA. From Lynchburg, VA; Flat Rock, VA; to Richmond, VA. From Smyrna, DE; Cedar Lake, NJ; Coyle, NJ; INT Coyle 036° and Kennedy, NY, 209° radials; Kennedy; INT Kennedy 040° and Calverton, NY, 261° radials; Calverton; to INT Calverton 044° and Madison, CT, 142° radials. The airspace within Mexico and the airspace below 2,000 feet MSL outside the United States is excluded. The airspace within Restricted Areas R-5002A, R-5002C, R-5002D, and R-5002F is excluded during their times of use.

* * * * *

V-103 [Amended]

From Chesterfield, SC; Greensboro, NC; to INT of Greensboro 357° T/360° M and South Boston, VA, 247° T/252° M radials. From Elkins, WV; Clarksburg, WV; Bellaire, OH; INT Bellaire 327° and Akron, OH, 181° radials; to Akron.

* * * * *

V-375 [Amended]

From Gordonsville, VA; to INT Gordonsville 034° and Casanova, VA, 142° radials.

* * * * *

V-473 [Amended]

From Montebello, VA; to Gordonsville, VA.

* * * * *

Issued in Washington, DC, on August 2, 2024.
Frank Lias,
Manager, Rules and Regulations Group.

[FR Doc. 2024-17483 Filed 8-7-24; 8:45 am]

BILLING CODE 4910-13-P